DEPARTMENT OF HOMELAND SECURITY

Coast Guard

[USCG-2004-17615]

Enforcement of SOLAS Requirements

AGENCY: Coast Guard, DHS.

ACTION: Notice of policy.

SUMMARY: The Coast Guard is issuing this notice to inform U.S. flag vessels in foreign ports that should be meeting International Convention for Safety of Life at Sea, 1974, (SOLAS), requirements, that we intend to more strictly and consistently enforce our regulations requiring SOLAS compliance. This enforcement notice is intended to warn such vessels to take steps to come into compliance and avoid the consequences of non-compliance.

DATES: Effective June 21, 2004 Comments and related material must reach the Docket Management Facility on or before September 20, 2004.

ADDRESSES: You may submit comments identified by Coast Guard docket number USCG-2004-17615 to the Docket Management Facility at the U.S. Department of Transportation. To avoid duplication, please use only one of the following methods:

(1) Web site: http://dms.dot.gov.

(2) Mail: Docket Management Facility, U.S. Department of Transportation, 400 Seventh Street SW., Washington, DC 20590-0001.

(3) Fax: 202-493-2251.

(4) Delivery: Room PL-401 on the Plaza level of the Nassif Building, 400 Seventh Street SW., Washington, DC, between 9 a.m. and 5 p.m., Monday through Friday, except Federal holidays. The telephone number is 202-366-9329.

FOR FURTHER INFORMATION CONTACT: For questions on this notice, please contact Lieutenant Commander Martin Walker, Project Manager, Office of Compliance (G-MOC-1), U.S. Coast Guard Headquarters, telephone 202-267-1047. If you have questions on viewing or submitting material to the docket, call Ms. Andrea M. Jenkins, Program Manager, Docket Operations, telephone 202-366-0271.

SUPPLEMENTARY INFORMATION:

Background and Purpose

On April 6, 2004, we published a notice entitled “Interpretation of International Voyage for Security Regulations” (69 FR 17927) to clarify how we will interpret a security regulation (33 CFR 104.297) requiring U.S. flag vessels on international voyages to comply with the International Ship and Port Facility Security Code (ISPS) of the International Convention for Safety of Life at Sea, 1974, (SOLAS). Enforcement of the new SOLAS ship security requirements cannot be separated from the longstanding obligation of the U.S. to ensure compliance with SOLAS ship safety requirements by U.S. flag vessels engaged on international voyages.

It is in the best interest of marine safety and security to apply all SOLAS standards consistently. To this end, the Coast Guard is publishing this Notice of Policy to avoid potential misunderstandings in how we will enforce longstanding SOLAS safety requirements as we begin implementation of the new SOLAS security requirements.

The notice we published on April 6, 2004, entitled “Interpretation of International Voyage for Security Regulations” (69 FR 17927) did not change the definition of “international voyage”, either in our regulations or in SOLAS. It said, in part, that, each voyage of a U.S. vessel originates in United States waters, regardless of when the voyage actually began.

Considering this interpretation of voyage, a U.S. flag vessel that has ever been in U.S. waters, which operates from a foreign port, is on an international voyage that originated at some time from a U.S. port. Therefore, all U.S. flag vessels that meet the applicability standards of SOLAS, and operate in foreign countries, will be required to comply with ISPS by July 1, 2004. Additionally, during the period of ISPS implementation, if we discover U.S. flag vessels operating on international voyages that are not SOLAS safety compliant—that is, vessels that do not have all appropriate SOLAS documentation—we will require those vessels to meet all applicable requirements to obtain those documents.

Some vessels, however, will not be affected by this interpretation of the term “voyage.” Vessels that received a SOLAS exemption certificate (SOLAS Chapter 1, Regulation 4(a)) granting permission from the Coast Guard to make a single voyage from the United States to a foreign country, and then operated solely within the waters of that foreign country are, at this time, not being required by the Coast Guard to be SOLAS safety compliant. Nonetheless, we can make no assurance that other parties to the SOLAS Convention will accept this continuing interpretation and may take port state action as they deem appropriate. Vessels in this situation will not be affected by the Coast Guard's interpretation of the term “voyage.” However, the Coast Guard is considering a regulation change for the future, which may apply SOLAS safety requirements to these vessels, but will not do so without notice and an opportunity for comment. Owners or operators of vessels of this description, or of other vessels deserving special consideration, should contact the cognizant Officer in Charge, Marine Inspection (OCMI) so that the OCMI may consider the facts and circumstances related to those particular vessels.

By way of example, we consider U.S. vessels in foreign waters that fit the following descriptions to be on an international voyage. Thus, owners and operators of these vessels that meet the applicability standards of SOLAS, and operate in foreign countries, should not inadvertently believe they are exempt, either from the safety or security requirements of SOLAS.

1. Vessels that did not previously receive a SOLAS exemption certificate (SOLAS Chapter 1, Regulation 4(a)) granting permission from the Coast Guard to make a single voyage from the United States to a foreign country, even though they may now be operating solely within the waters of a foreign country.

2. Vessels that have engaged in any voyage from their country of operation, to a port in another country, without complying with all applicable SOLAS requirements.

3. Vessels that failed to operate within the conditions or any other specific requirements of a SOLAS exemption certificate previously issued by the Coast Guard.

Each of the scenarios in “1” thru “3” above, describe vessels that are on an international voyage. Thus, once within the waters of a foreign country, those vessels have been, and are, required to comply with all applicable SOLAS safety requirements.

Comments and Viewing Documents Referenced in this Notice

If you wish to submit comments regarding this notice, please send them to the Docket Management Facility at the address under ADDRESSES. All comments received will be posted, without change, to http://dms.dot.gov and will include any personal information you have provided. We have an agreement with the Department of Transportation (DOT) to use the Docket Management Facility. Please see DOT's “Privacy Act” paragraph below.

Submitting comments: If you submit a comment, please include your name and address, and identify the docket number (USCG-2004-17615). You may submit your comments and material by electronic means, mail, fax, or delivery to the Docket Management Facility at the address under ADDRESSES; but please submit your comments and material by only one means. If you submit them by mail or delivery, submit them in an unbound format, no larger than 81/2 by 11 inches, suitable for copying and electronic filing. If you submit them by mail and would like to know that they reached the Facility, please enclose a stamped, self-addressed postcard or envelope.

Viewing comments: To view comments, go to http://dms.dot.gov at any time and conduct a simple search using the docket number. You may also visit the Docket Management Facility in room PL-401 on the Plaza level of the Nassif Building, 400 Seventh Street SW., Washington, DC, between 9 a.m. and 5 p.m., Monday through Friday, except Federal holidays.

Privacy Act: Anyone can search the electronic form of all comments received into any of our dockets by the name of the individual submitting the comment (or signing the comment, if submitted on behalf of an association, business, labor union, etc.). You may review the Department of Transportation's Privacy Act Statement in the Federal Register published on April 11, 2000 (65 FR 19477), or you may visit http://dms.dot.gov.

Dated: June 10, 2004.
T. H. Gilmour,
Rear Admiral, U.S. Coast Guard, Assistant Commandant for Marine Safety, Security and Environmental Protection.

[FR Doc. 04-13981 Filed 6-18-04; 8:45 am]

BILLING CODE 4910-15-P